SECURITIES AND EXCHANGE COMMISSION

Submission for OMB Review; Comment Request

Upon written request, copies available from: Securities and Exchange Commission, Office of Investor Education and Advocacy, Washington, DC 20549-0213.

Extension:

Mutual Fund Interactive Data; SEC File No. 270-580; OMB Control No. 3235-0642.

Notice is hereby given that, pursuant to the Paperwork Reduction Act of 1995 (44 U.S.C. 3501 et seq.), the Securities and Exchange Commission (the “Commission”) has submitted to the Office of Management and Budget (“OMB”) a request for extension of the previously approved collection of information discussed below.

Open-end management investment companies (“funds”) are required to submit to the Commission information included in their registration statements, or information included in or amended by post-effective amendments thereto, in response to Items 2, 3, and 4 (“risk/return summary information”) of Form N-1A (17 CFR 239.15A and 274.11A) in interactive data format and to post it on their Web sites, if any, in interactive data form. In addition, funds are required to submit an interactive data file to the Commission for any form of prospectus filed pursuant to rule 497(c) or (e) (17 CFR 230.497) under the Securities Act of 1933 (15 U.S.C. 77a et seq.) that includes risk/return summary information that varies from the registration statement and to post the interactive data file on their Web sites, if any.

The title for the collection of information for submitting risk/return summary information in interactive data format is “Mutual Fund Interactive Data.” This collection of information relates to regulations and forms adopted under the Securities Act, the Securities Exchange Act of 1934 (15 U.S.C. 78a et seq.), and the Investment Company Act of 1940 (15 U.S.C. 80a-1 et seq.) that set forth disclosure requirements for funds and other issuers. The purpose of the Mutual Fund Interactive Data requirements is to make risk/return summary information easier for investors to analyze and to assist in automating regulatory filings and business information processing.

Funds are required to file an initial registration statement on Form N-1A and to update that registration statement annually. The Commission estimates that each fund will submit one interactive data document as an exhibit to a registration statement or a post-effective amendment thereto on Form N-1A that includes or amends information provided in response to Items 2, 3 or 4 annually. In addition, based on a review by Commission staff of Mutual Fund Interactive Data submissions in calendar year 2011, the Commission estimates that 33% of funds will provide risk/return summary information as interactive data in additional filings submitted pursuant to rule 485(b) (17 CFR 230.485(b)) or rule 497 under the Securities Act annually.

The Commission estimates that the total annual hour burden associated with tagging risk/return summary information is approximately 11 hours. Based on estimates of 9,800 funds each submitting one interactive data document as an exhibit to a registration statement or post-effective amendment thereto and 3,200 funds submitting an additional interactive data document as an exhibit to a filing pursuant to rule 485(b) or rule 497, each incurring 11 hours per year on average, the Commission estimates that, in the aggregate, the tagging of risk/return summary information will result in approximately 143,000 annual burden hours. In addition, the Commission estimates that funds will require an average of approximately one burden hour to post interactive data to their Web sites. Based on estimates of 9,800 funds each posting one interactive data document as an exhibit to a registration statement or post-effective amendment thereto and 3,200 funds posting an additional interactive data document as an exhibit to a filing pursuant to rule 485(b) or rule 497, each incurring one burden hour per year on average, the Commission estimates that, in the aggregate, Mutual Fund Interactive Data Web site posting requirements will result in approximately 13,000 annual burden hours.

The Commission estimates that the average cost burden per fund is $841 per year. Based on the estimate of 9,800 funds using software and/or consulting services at an annual cost of $841, the Commission estimates that, in the aggregate, the total external costs to the industry will be approximately $8.2 million.

Estimates of average burden hours are made solely for the purposes of the Paperwork Reduction Act and are not derived from a comprehensive or even representative survey or study of the costs of Commission rules and forms.

The collection of information under the Mutual Fund Interactive Data requirements is mandatory for all funds. Responses to the disclosure requirements will not be kept confidential. An agency may not conduct or sponsor, and a person is not required to respond to, a collection of information unless it displays a currently valid OMB control number.

The public may view the background documentation for this information collection at the following Web site, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Thomas Bayer, Director/Chief Information Officer, Securities and Exchange Commission, c/o Remi Pavlik-Simon, 6432 General Green Way, Alexandria, VA 22312; or send an email to: PRA_Mailbox@sec.gov. Comments must be submitted to OMB within 30 days of this notice.

Dated: April 26, 2012.
Kevin M. O'Neill,
Deputy Secretary.

[FR Doc. 2012-10545 Filed 5-1-12; 8:45 am]

BILLING CODE 8011-01-P